OFFICE OF THE UNITED STATES TRADE REPRESENTATIVE

Notice of Correction to U.S. Note 1 Subchapter XXI of Chapter 98 of the Harmonized Tariff Schedule of the United States

AGENCY: Office of the United States Trade Representative.

ACTION: Notice.

SUMMARY: This notice makes rectifications to the Harmonized Tariff Schedule of the United States (HTS) to reflect that Peru remains a designated beneficiary country for purposes of the Andean Trade Promotion and Drug Eradication Act (ATPDEA) and that the President has suspended Bolivia's designation as beneficiary country for the purposes of the ATPDEA.

DATES: Effective with respect to goods of Peru that are entered, or withdrawn from warehouse for consumption, on or after February 1, 2009, and with respect to goods of Bolivia that are entered, or withdrawn from warehouse for consumption, on or after December 15, 2008. With respect to Peru, retroactive claims are allowed through existing CBP administrative avenues.

FOR FURTHER INFORMATION CONTACT: Maríia L. Pagán, Associate General Counsel, Office of the United States Trade Representative, (202) 395-7305, regarding issues related to Peru and Shubha Sastry, Assistant General Counsel Office of the United States Trade Representative, (202) 395-3150, for issues related to Bolivia designation under the ATPDEA.

SUPPLEMENTARY INFORMATION: In Proclamation 8341 (January 16, 2009) (74 FR 4105), the President proclaimed certain changes to the HTS in order to implement the United States-Peru Trade Promotion Agreement and for other purposes. Annex I of Publication 4058 of the United States International Trade Commission, incorporated by reference into Proclamation 8341, incorrectly deleted Peru from the enumeration of designated beneficiary countries in U.S. note 1 to subchapter XXI of Chapter 98 of the HTS.

In Proclamation 8323 (November 25, 2008), the President proclaimed that U.S. note 1 to subchapter XXII of chapter 98 of the HTS was modified by removing “Bolivia” from the list of ATPDEA beneficiary countries. The list of ATPDEA beneficiary countries is in subchapter XXI and not XXII.

In Proclamation 6969 (January 27, 1997) (62 FR 4415), the President delegated to the United States Trade Representative (USTR) the authority under section 604 of the Trade Act of 1974 (19 U.S.C. 2483) to make rectifications, technical or conforming changes, or similar modifications to the HTS and to embody those changes in the HTS. Pursuant to the authority delegated to the USTR in Proclamation 6969, U.S. note 1 to subchapter XXI of chapter 98 of the HTS is rectified by inserting “Peru” in alphabetical sequence in the list of designated beneficiary countries and deleting “Bolivia” from that list.

Peter F. Allgeier,
Acting United States Trade Representative.

[FR Doc. E9-3395 Filed 2-13-09; 8:45 am]

BILLING CODE 3190-W9-P